FEDERAL COMMUNICATIONS COMMISSION

47 CFR Part 73

(DA 00-2713, MM Docket No. 94-29, RM-8416)

Radio Broadcasting Services; Willows and Dunnigans, California

AGENCY: Federal Communications Commission.

ACTION: Final rule: petition for reconsideration.

SUMMARY: This document denies the petition for reconsideration filed by Marysville Radio, Inc. and Roseville Radio, Inc., of our Report and Order, 60 FR 55332 (October 31, 1995) which substituted Channel 288B1 for Channel 288A and reallotted Channel 288B1 from Willows to Dunnigan, California and modified the license for Station KIQS-FM accordingly. The Commission determined that a new engineering study can not be relied upon and that the Report and Order properly compared the existing and proposed arrrangement of allotments under the FM Priorities. With this action, this proceeding is terminated.

FOR FURTHER INFORMATION CONTACT: Arthur D. Scrutchins, Mass Media Bureau, (202) 418-2180.

SUPPLEMENTARY INFORMATION: This is a synopsis of the Commission's Memorandum Opinion and Order, MM Docket No. 94-29, adopted November 22, 2000 and released December 1, 2000. The full text of this Commission decision is available for inspection and copying during normal business hours in the FCC Reference Information Center (Room CY-A257), at its headquarters, 445 12th Street, S.W. Washington, D.C.

The complete text of this decision may also be purchased from the Commission's copy contractors, International Transcription Service, Inc., (202) 857-3800, 1231 20th Street, N.W. Washington, D.C. 20036.

Federal Communications Commission.
John A. Karousos,
Chief, Allocations Branch, Policy and Rules Division, Mass Media Bureau.

[FR Doc. 00-31398 Filed 12-8-00; 8:45 am]

BILLING CODE 6712-01-P